DEPARTMENT OF COMMERCE

Foreign-Trade Zones Board

[Order No. 1986]

Reorganization of Foreign-Trade Zone 8 (Expansion of Service Area) Under Alternative Site Framework Toledo, Ohio

Pursuant to its authority under the Foreign-Trade Zones Act of June 18, 1934, as amended (19 U.S.C. 81a-81u), the Foreign-Trade Zones Board (the Board) adopts the following Order:

Whereas, the Board adopted the alternative site framework (ASF) (15 CFR 400.2(c)) as an option for the establishment or reorganization of zones;

Whereas, the Toledo-Lucas County Port Authority, grantee of Foreign-Trade Zone 8, submitted an application to the Board (FTZ Docket B-38-2015, docketed June 9, 2015) for authority to expand the service area of the zone to include Erie, Fulton, Ottawa, Paulding and Williams Counties, as described in the application, adjacent to the Toledo, Ohio Customs and Border Protection port of entry;

Whereas, notice inviting public comment was given in the Federal Register (80 FR 33479-33480, June 12, 2015) and the application has been processed pursuant to the FTZ Act and the Board's regulations; and,

Whereas, the Board adopts the findings and recommendations of the examiner's report, and finds that the requirements of the FTZ Act and the Board's regulations are satisfied;

Now, therefore, the Board hereby orders:

The application to reorganize FTZ 8 to expand the service area under the ASF is approved, subject to the FTZ Act and the Board's regulations, including Section 400.13, and to the Board's standard 2,000-acre activation limit for the zone.

Signed at Washington, DC, this 10th day of November 2015.
Paul Piquado,
Assistant Secretary of Commerce for Enforcement and Compliance, Alternate Chairman, Foreign-Trade Zones Board.
Attest:
Elizabeth Whiteman,
Acting Executive Secretary.

[FR Doc. 2015-29476 Filed 11-17-15; 8:45 am]

BILLING CODE 3510-DS-P